DEPARTMENT OF HOMELAND SECURITY

[Docket No. CISA-2023-0012]

Notice of President's National Infrastructure Advisory Council Meeting

AGENCY: Cybersecurity and Infrastructure Security Agency (CISA), Department of Homeland Security (DHS).

ACTION: Notice of Federal Advisory Committee Act (FACA) meeting; request for comments.

SUMMARY: CISA is publishing this notice to announce the following President's National Infrastructure Advisory Council (NIAC) meeting.

DATES:

Meeting Registration: Registration is required to attend the meeting and must be received no later than 5:00 p.m. Eastern Time (ET) on August 23, 2023. For more information on how to participate, please contact NIAC@cisa.dhs.gov.

Speaker Registration: Registration to speak during the meeting's public comment period must be received no later than 5:00 p.m. ET on August 23, 2023.

Written Comments: Written comments must be received no later than 5:00 p.m. ET on August 23, 2023.

Meeting Date: The NIAC will meet on Monday, August 28, 2023, from 2:30 p.m. to 3:00 p.m. ET. The meeting may close early if the council has completed its business.

ADDRESSES: The meeting will be held virtually and will be open to the public. Requests to participate will be accepted and processed in the order in which they are received. For access to the meeting, information on services for individuals with disabilities, or to request special assistance, please email NIAC@cisa.dhs.gov by 5:00 p.m. ET on August 23, 2023. The NIAC is committed to ensuring all participants have equal access regardless of disability status. If you require a reasonable accommodation due to a disability to fully participate, please contact Celinda Moening at NIAC@cisa.dhs.gov as soon as possible.

Comments: The council will consider public comments on issues as listed in the SUPPLEMENTARY INFORMATION section below. Associated materials for potential discussions during the meeting will be available for review at https://www.cisa.gov/niac by August 22, 2023. Comments should be submitted by 5:00 p.m. ET on August 23, 2023 and must be identified by Docket Number CISA-2023-0012. Comments may be submitted by one of the following methods:

• Federal eRulemaking Portal: www.regulations.gov. Please follow the instructions for submitting written comments.

• Email: NIAC@cisa.dhs.gov. Include the Docket Number CISA-2023-0012 in the subject line of the email.

Instructions: All submissions received must include the words “Department of Homeland Security” and the Docket Number for this action. Comments received will be posted without alteration to www.regulations.gov, including any personal information provided. You may wish to read the Privacy & Security Notice which is available via a link on the homepage of www.regulations.gov.

Docket: For access to the docket and comments received by the National Infrastructure Advisory Council, please go to www.regulations.gov and enter docket number CISA-2023-0012.

A public comment period will take place from 2:40 p.m. to 2:50 p.m. Speakers who wish to participate in the public comment period must email NIAC@cisa.dhs.gov to register. Speakers should limit their comments to 3 minutes and will speak in order of registration. Please note that the public comment period may end before the time indicated, depending on the number of speakers who register to participate.

FOR FURTHER INFORMATION CONTACT: Celinda Moening, 571-532-4119, NIAC@cisa.dhs.gov.

SUPPLEMENTARY INFORMATION: The NIAC is established under Section 10 of E.O. 13231 issued on October 16, 2001, continued and amended under the authority of E.O. 14048, dated September 30, 2021. Notice of this meeting is given under the Federal Advisory Committee Act (FACA), 5 U.S.C. ch. 10 (Pub. L. 117-286). The NIAC provides the President, through the Secretary of Homeland Security, advice on the security and resilience of the Nation's critical infrastructure sectors.

Agenda: The National Infrastructure Advisory Council will meet virtually in an open session on Monday, August 28, 2023, from 2:30 p.m. to 3:00 p.m. ET with a focus on deliberation and vote on the Water Security Report. The meeting will include (1) remarks from the administration and CISA leadership related to water security (2) a period for public comment and (3) deliberation and vote on NIAC Report to the President on Preparing United States Critical Infrastructure for Today's Evolving Water Crises.

Dated: July 24, 2023.
Celinda E. Moening,
Alternate Designated Federal Officer, National Infrastructure Advisory Council, Cybersecurity and Infrastructure Security Agency, Department of Homeland Security.

[FR Doc. 2023-16076 Filed 7-27-23; 8:45 am]

BILLING CODE 9110-9P-P